FEDERAL COMMUNICATIONS COMMISSION

Sunshine Act Meeting; Open Commission Meeting; Thursday, February 11, 2010

Date: February 11, 2010.

The Federal Communications Commission will hold an Open Meeting on the subjects listed below on Thursday, February, 11, 2010, which is scheduled to commence at 10:30 a.m. in Room TW-C305, at 445 12th Street, S.W., Washington, D.C.

The meeting will also include a report on the status of the National Broadband Plan, providing a framework for the national purposes portion of the plan.

ITEM NO. | BUREAU | SUBJECT
1 | OFFICE OF THE GENERAL COUNSEL | TITLE: Amendment of Certain of the Commission's Part 1 Rules of Practice and Procedure and Part 0 Rules of Commission Organization SUMMARY: The Commission will consider a Notice of Proposed Rulemaking to enhance the efficiency, openness, and transparency of the Commission's proceedings by improving and modernizing certain organizational and procedural rules.
2 | OFFICE OF THE GENERAL COUNSEL | TITLE: Amendment of the Commission's Ex Parte Rules and Other Procedural Rules SUMMARY: The Commission will consider a Notice of Proposed Rulemaking to improve the transparency and effectiveness of the FCC's decision-making process by reforming the ex parte rules.
3 | WIRELINE COMPETITION | TITLE: Schools and Libraries Universal Service Support Mechanism (CC Docket No. 02-6) SUMMARY: The Commission will consider an Order and Notice of Proposed Rulemaking to enable schools that receive funding from the E-Rate program to allow members of the general public to use the schools' Internet access during non-operating hours at no additional cost to the Universal Service Fund. This order and notice do not permit or require any changes to E-Rate applications due on February 11, 2010.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an e-mail to: fcc504@fcc.gov <mailto:fcc504@fcc.gov> or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC Live web page at www.fcc.gov/live <http://www.fcc.gov/live>.

For a fee this meeting can be viewed live over George Mason University's Capitol Connection. The Capitol Connection also will carry the meeting live via the Internet. To purchase these services call (703) 993-3100 or go to www.capitolconnection.gmu.edu <http://www.capitolconnection.gmu.edu/>.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Federal Communications Commission.
Marlene H. Dortch,
Secretary,
Office of the Secretary,
Office of Managing Director.

[FR Doc. 2010-2942 Filed 2-5-10; 4:15 pm]

BILLING CODE 6712-01-S